DEPARTMENT OF TRANSPORTATION

Federal Aviation Administration

14 CFR Part 39

[Docket No. FAA-2005-21434; Directorate Identifier 2004-NM-75-AD]

RIN 2120-AA64

Airworthiness Directives; Boeing Model 727 Airplanes

AGENCY: Federal Aviation Administration (FAA), Department of Transportation (DOT).

ACTION: Notice of proposed rulemaking (NPRM).

SUMMARY: The FAA proposes to adopt a new airworthiness directive (AD) for all Boeing Model 727 airplanes. This proposed AD would require repetitive inspections for cracks of the body skin, doubler, and bear strap at the forward edge of the upper and lower hinge cutouts of the forward entry door, related investigative actions, and corrective action if necessary. This proposed AD also would require a preventive modification. This proposed AD is prompted by reports of skin and bear strap cracks at hinge cutouts. We are proposing this AD to detect and correct cracks in the skin and bear strap at the hinge cutouts of the forward entry door, which could result in rapid decompression of the airplane.

DATES: We must receive comments on this proposed AD by July 29, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

You may examine the contents of this AD docket on the Internet at http://dms.dot.gov, or at the Docket Management Facility, U.S. Department of Transportation, 400 Seventh Street, SW., room PL-401, on the plaza level of the Nassif Building, Washington, DC.

FOR FURTHER INFORMATION CONTACT: Daniel F. Kutz, Aerospace Engineer, Airframe Branch, ANM-120S, FAA, Seattle Aircraft Certification Office, 1601 Lind Avenue, SW. Renton, Washington 98055-4056; telephone (425) 917-6456; fax (425) 917-6590.

SUPPLEMENTARY INFORMATION:

Comments Invited

We invite you to submit any written relevant data, views, or arguments regarding this proposed AD. Send your comments to an address listed under ADDRESSES. Include “Docket No. FAA-2005-21434; Directorate Identifier 2004-NM-75-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You can examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports from 12 operators of skin cracks in the forward entry door cutouts on 75 Boeing Model 727 airplanes. The cracks were detected or found on airplanes that had accumulated between 19,500 and 65,500 total flight hours, and between 11,700 and 50,600 total flight cycles. The skin cracks were between 0.25 inch and 3.25 inches long and were initiated along the forward edge of the upper and lower hinge cutouts. One operator also reported cracks in the bear strap of the forward entry door. The airplane that had these cracks had accumulated 30,700 total flight hours and 28,100 total flight cycles. According to the manufacturer, the cracks were caused by fatigue, which resulted from cabin pressurization cycles.

Approximately 22% of these 75 airplanes had cracks at only the upper hinge cutout; 43% had cracks at only the lower hinge cutout; and 35% had cracks at both upper and lower hinge cutouts.

In addition, one operator reported cracks in the bear strap that is located in the fastener row directly above and below the hinge cutout on six airplanes. The operator found the cracks after installing a repair or preventative modification on three of the six airplanes.

Cracks in the skin and bear strap at the hinge cutouts of the forward entry door, if not detected and corrected, could result in rapid decompression of the airplane.

Related Rulemaking

On December 30, 1998, we issued Supplemental Structural Inspection Program AD 98-11-03 R1, amendment 39-10983 (64 FR 989, January 7, 1999) for Boeing Model 727 series airplanes. That AD, in addition to its primary purpose to require inspection of baseline structure, also addresses repairs, alterations, and modifications (RAMs). AD 98-11-03 R1 requires operators to provide damage tolerance-based inspection programs for RAMs that affect structurally significant items or that create new structurally significant items. Certain inspections in this proposed AD are alternative methods of compliance (AMOCs) for the inspections of certain repaired areas that are mandated by AD 98-11-03 R1.

Relevant Service Information

We have reviewed Boeing Alert Service Bulletin 727-53A0198, Revision 2, dated October 30, 2003.

Revision 2 of the alert service bulletin describes procedures for airplanes based on whether repairs or preventative modifications have been done in accordance with the original issue, Revision 1, or Revision 2 of the service bulletin. These procedures are described in items 1, 2, 3, and 4 below.

1. For airplanes on which no repair or preventative modification has been done in accordance with Boeing Service Bulletin 727-53-0198, dated January 11, 1990; or Revision 1, dated July 25, 1991; or Boeing Alert Service Bulletin 727-53A0198, Revision 2, dated October 30, 2003:

• Revision 2 of the alert service bulletin specifies to do a detailed inspection and high frequency eddy current (HFEC) inspections for cracks of the skin, doubler, and bear strap at the upper and lower hinge cutout.

• If no crack is found during any inspection, Revision 2 of the alert service bulletin specifies to apply certain finishes and repeat the inspections. Doing the preventative modification or repairing in accordance with Revision 2 of the alert service bulletin eliminates only these repetitive inspections.

• If any crack is found during any inspection, and the crack does not exceed certain limits, Revision 2 of the alert service bulletin specifies to repair the crack, and do an HFEC inspection of the trim radius to verify that the crack is removed.

• If any crack is found during any inspection, and the crack exceeds certain limits, Revision 2 of the alert service bulletin specifies to contact Boeing for repair instructions.

2. For airplanes on which any repair or preventative modification has been done in accordance with Boeing Service Bulletin 727-53-0198, dated January 11, 1990:

• Revision 2 of the alert service bulletin specifies to do an inspection to determine if a filler or shim was installed below the S-10 lap joint common to the upper hinge cutout.

• If the filler or shim is missing, Revision 2 of the alert service bulletin specifies to remove the external doubler, do detailed and HFEC inspections of the hinge cutout for cracks, and repair or modify the area if necessary.

• If filler and shim are not missing, Revision 2 of the alert service bulletin specifies to do an HFEC inspection of the pre-existing fastener holes and modifying the pre-existing fastener holes.

3. For airplanes on which any repair or preventative modification has been accomplished in accordance with Boeing Service Bulletin 727-53-0198, dated January 11, 1990; or Revision 1, dated July 25, 1991:

• If pre-existing fastener holes common to the repair or preventative modification were HFEC inspected and oversized: Revision 2 of the alert service bulletin specifies to do an internal HFEC inspection of the bear strap and an external detailed inspection of the repair or preventative modification and its periphery for cracks.

• If pre-existing fastener holes common to the repair or preventative modification were not HFEC inspected: Revision 2 of the alert service bulletin specifies to remove all pre-existing fasteners common to the repair or preventative modification; do an open hole HFEC inspection of the fastener holes for cracks; and oversize the fasteners holes, if no crack is found; and do an internal HFEC inspection of the bear strap and an external detailed inspection of the repair or preventative modification and its periphery for cracks. If any crack is found during the inspection, repair and contact Boeing.

4. For airplanes on which any repair or preventative modification has been done in accordance with Revision 2 of the alert service bulletin, the alert service bulletin specifies to do the following:

• An initial and repetitive HFEC inspections for cracks of the bear strap.

• Initial and repetitive internal inspections for cracks of any repair or preventative modification and its periphery.

• If any crack is found, Revision 2 of the alert service bulletin specifies to repair and contact Boeing.

Revision 2 of the alert service bulletin also describes a preventive modification, which includes doing an open hole HFEC inspection for cracks, oversizing fastener holes, installing doublers, and repairing cracks.

The repairs specified in Revision 2 of the alert service bulletin include doing HFEC inspections for cracks and installing fillers or shims, doublers, and triplers if necessary.

Revision 2 of the alert service bulletin notes that certain inspections have been approved as an AMOC for the inspections of items F-13A and F-14A of the 727 Supplemental Structural Inspection Document mandated by AD 98-11-03 R1 for the areas covered by the repairs/preventative modification.

We have determined that accomplishment of the actions specified in Revision 2 of the alert service bulletin will adequately address the unsafe condition.

FAA's Determination and Requirements of the Proposed AD

We have evaluated all pertinent information and identified an unsafe condition that is likely to exist or develop on other airplanes of this same type design. Therefore, we are proposing this AD, which would require repetitive inspections for cracks of the body skin, doubler, and bear strap at the forward edge of the upper and lower hinge cutouts of the forward entry door, related investigative actions, and corrective action if necessary. This proposed AD also would require a preventive modification. The proposed AD would require you to use the service information described previously to perform these actions, except as discussed under “Differences Between the Proposed AD and the Alert Service Bulletin.”

Differences Between the Proposed AD and the Alert Service Bulletin

Where Revision 2 of Boeing Alert Service Bulletin 727-53A0198 specifies that you may contact the manufacturer for instructions on how to repair certain conditions; and where paragraphs 3.B.9. and 3.B.10. of the Accomplishment Instructions of the alert service bulletin specifies to “repair before further flight and contact the Boeing Company;” this proposed AD would require you to repair those conditions in one of the following ways:

• Using a method that we approve; or

• Using data that meet the certification basis of the airplane, and that have been approved by an Authorized Representative for the Boeing Delegation Option Authorization Organization who has been authorized by the FAA to make those findings.

The alert service bulletin recommends that operators do the preventive modification before the airplane accumulates 60,000 total flight cycles; however, this proposed AD would require the preventative modification before the airplane accumulates 60,000 total flight cycles, or within 3,000 flight cycles after the effective date of the AD, whichever occurs later, unless the repair has already been done. In developing an appropriate compliance time for this proposed AD, we considered the manufacturer's recommendation as well as the amount of time necessary to do the inspections, preventative modification, and any necessary repair. We also considered that some airplanes could be close to 60,000 total flight cycles at the effective date of the AD, and we considered that operators of those airplanes should be allowed a grace period in which to accomplish the preventative modification. In light of all of these factors, we find that a compliance time of 60,000 total flight cycles, or 3,000 flight cycles after the effective date of the AD, whichever occurs later, represents an appropriate interval for affected airplanes to continue to operate without compromising safety.

We also added a grace period of 3,000 flight cycles after the effective date of the AD for the post repair/preventative modification inspections that the service bulletin specifies to be done within 40,000 flight cycles after doing the repair or preventative modification. We find that a compliance time of 40,000 flight cycles after doing the repair or preventative modification, or 3,000 flight cycles after the effective date of the AD, whichever occurs later, represents an appropriate interval for affected airplanes to continue to operate without compromising safety.

Operators should note that where Figures 5 and 6 of the Accomplishment Instructions of the alert service bulletin specify code F, this proposed AD refers to code D. Code F is a typographical error in the service bulletin and does not exist in the table that explains the codes.

Although paragraphs 3.B.9. and 3.B.10. of the Accomplishment Instructions of the alert service bulletin specify that operators should contact Boeing after repairing cracks, this proposed AD does not include that requirement.

Operators should note that, although the Appendix A of the alert service bulletin contains instructions for reporting discrepancies to Boeing Customer Support Technical Services, this proposed AD does not require those actions.

These differences have been coordinated with Boeing.

Clarification of Alert Service Bulletin

For airplanes on which the repair or preventative modification has not been done, paragraph 1.E., Compliance, of the alert service bulletin does not specify the applicable paragraphs in the Accomplishment Instructions of the alert service bulletin for doing the actions. Paragraphs 3.B.1 through 3.B.7 of the Accomplishment Instructions of the alert service bulletin describe the actions for airplanes on which the repair or preventative modification has not been done.

Costs of Compliance

There are about 1,015 airplanes of the affected design in the worldwide fleet. The following table provides the estimated costs for U.S. operators to comply with this proposed AD.

Estimated Costs
Action | Work hours | Average labor rate per hour | Cost per airplane | Number of U.S. airplanes | Fleet Cost
Inspection | 7 | $65 | $455 per inspection cycle | 589 | $267,995
Preventative modification | 40 | 65 | $2,600 | 589 | 1,531,400

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-21434; Directorate Identifier 2004-NM-75-AD.

Comments Due Date

(a) The Federal Aviation Administration (FAA) must receive comments on this AD action by July 29, 2005.

Affected ADs

(b) None

Applicability

(c) This AD applies to all Boeing Model 727, 727C, 727-100, 727-100C, 727-200, and 727-200F series airplanes, certificated in any category.

Unsafe Condition

(d) This AD was prompted by reports of skin and bear strap cracks at hinge cutouts of the forward entry door. We are issuing this AD to detect and correct cracks in the skin and bear strap at the hinge cutouts of the forward entry door, which could result in rapid decompression of the airplane.

Compliance

(e) You are responsible for having the actions required by this AD performed within the compliance times specified, unless the actions have already been done.

Service Bulletin Reference

(f) The term “alert service bulletin,” as used in this AD, means Boeing Alert Service Bulletin 727-53A0198, Revision 2, dated October 30, 2003. Although the alert service bulletin referenced in this AD specifies to submit certain information to the manufacturer, this AD does not include that requirement.

Initial and Repetitive Inspections for Airplanes on Which No Actions Have Been Done

(g) For airplanes on which no repair or preventative modification has been done before the effective date of this AD in accordance with Boeing Service Bulletin 727-53-0198, dated January 11, 1990; or Revision 1, dated July 25, 1991; or the alert service bulletin: Within 3,000 flight cycles after the effective date of this AD, do detailed and high frequency eddy current (HFEC) inspections for cracks of the skin, doubler, and bear strap at the upper and lower hinge cutout in accordance with the Accomplishment Instructions of the alert service bulletin.

(1) If no crack is found, before further flight, apply finishes in accordance with the Accomplishment Instructions of the alert service bulletin and repeat the inspections required by paragraph (g) of this AD thereafter at intervals not to exceed 3,000 flight cycles, until the preventative modification required by paragraph (j) of this AD or a repair required by paragraph (m) of this AD is done.

(2) If any crack is found, before further flight, do the repair specified in paragraph (m) of this AD.

Inspections for Airplanes on Which Actions Have Been Done in Accordance With the Original Issue of the Service Bulletin

(h) For airplanes on which any repair or preventative modification has been done before the effective date of this AD in accordance with Boeing Service Bulletin 727-53-0198, dated January 11, 1990: Within 12,000 flight cycles after the repair or preventative modification was done or within 3,000 flight cycles after the effective date of this AD, whichever is later, do a detailed inspection to determine if a filler or shim was installed below the S-10 lap joint common to the upper hinge cutout, an internal HFEC inspection for cracks of the bear strap, and an external detailed inspection for cracks of the repair or preventative modification and its periphery, in accordance with the Accomplishment Instructions of the alert service bulletin.

(1) If the filler or shim is missing, before further flight, remove the external doubler, do detailed and HFEC inspections for cracks at the hinge cutout areas specified in Figure 1 of the alert service bulletin, and do an HFEC inspection of the pre-existing fastener holes for cracks, in accordance with the Accomplishment Instructions of the alert service bulletin.

(i) If no crack is found, before further flight, oversize the fastener holes in accordance with the Accomplishment Instructions of the alert service bulletin.

(ii) If any crack is found, before further flight, do the repair specified in paragraph (m) of this AD.

(2) If the filler and shim are not missing, before further flight, do an HFEC inspection of the pre-existing fastener holes for cracks in accordance with the Accomplishment Instructions of the alert service bulletin.

(i) If no crack is found, before further flight, oversize the fastener holes in accordance with the Accomplishment Instructions of the alert service bulletin.

(ii) If any crack is found, before further flight, do the repair specified in paragraph (m) of this AD.

Inspections for Airplanes on Which Actions Have Been Done in Accordance With the Revision 1 of the Service Bulletin

(i) For airplanes on which any repair or preventative modification has been done before the effective date of this AD in accordance with Boeing Service Bulletin 727-53-0198, Revision 1, dated July 25, 1991: Within 12,000 flight cycles after the repair or preventative modification was done or within 3,000 flight cycles after the effective date of this AD, whichever is later, do the actions in paragraph (i)(1) and (i)(2) of this AD, as applicable.

(1) If pre-existing fastener holes common to the repair or preventative modification have been HFEC inspected and oversized as specified in the alert service bulletin, do an internal HFEC inspection of the bear strap and an external detailed inspection for cracks of the repair or preventative modification and its periphery in accordance with the Accomplishment Instructions of the alert service bulletin. If any crack is found, before further flight, do the repair specified in paragraph (m) of this AD.

(2) If pre-existing fastener holes common to the repair or preventative modification have not been HFEC inspected and oversized as specified in the alert service bulletin, do an internal HFEC inspection of the bear strap, an external detailed inspection for cracks of the repair or preventative modification and its periphery, and remove all fasteners at original production locations common to the repair or preventative modification and do an open hole HFEC inspection for cracks of the fastener holes; in accordance with the Accomplishment Instructions of the alert service bulletin.

(i) If no crack is found, before further flight, oversize the fasteners holes before restoring the repair or preventative modification in accordance with the Accomplishment Instructions of the alert service bulletin.

(ii) If any crack is found, before further flight, do the repair specified in paragraph (m) of this AD.

Preventive Modification

(j) Before the accumulation of 60,000 total flight cycles, or within 3,000 flight cycles after the effective date of this AD, whichever occurs later: Do the preventive modification (including HFEC inspection) in accordance with the Accomplishment Instructions of the alert service bulletin. Doing the preventative modification terminates the repetitive inspections required by paragraph (g)(1) of this AD.

Note 1: Repairs or preventative modifications that were done using Boeing Service Bulletin 727-53-0198, dated January 11, 1990; or Revision 1, dated July 25, 1991; are not considered acceptable for complying with the requirements of paragraph (j) of this AD.

(k) In lieu of the preventative modification required by paragraph (j) of this AD, doing the applicable repair specified in paragraph (m) of this AD is acceptable.

(l) In lieu of the preventative modification required by paragraph (j) of this AD, doing the actions specified in paragraph (h) or (i) of this AD is acceptable for the airplanes identified in those paragraphs.

Repair

(m) If any crack is found during any inspection, preventative modification, or repair required by this AD, before further flight, do the applicable repair (including HFEC inspection) specified in paragraph (m)(1) or (m)(2) of this AD, as applicable. Doing the repair terminates the repetitive inspections required by paragraph (g)(1) of this AD. Doing the repair is acceptable for compliance with the requirements of paragraph (j) of this AD provided the repair is done within the time specified in that paragraph.

(1) If the crack does not exceed the limits described in the alert service bulletin, repair the crack in accordance with the applicable procedures in the Accomplishment Instructions of the alert service bulletin, except as provided by paragraph (n) of this AD.

(2) If the crack exceeds the limits described in the alert service bulletin and the alert service bulletin specifies to contact Boeing or if the alert service bulletin specifies to repair before further flight and contact the Boeing company: Repair in accordance with a method approved by the Manager, Seattle Aircraft Certification Office (ACO), FAA; or according to data meeting the certification basis of the airplane approved by an Authorized Representative (AR) for the Boeing Delegation Option Authorization (DOA) Organization who has been authorized by the Manager, Seattle ACO, to make those findings. For a repair method to be approved, the repair must meet the certification basis of the airplane, and the approval must specifically refer to this AD.

(n) Where Figures 5 and 6 of the Accomplishment Instructions of the alert service bulletin specify code F, this AD requires operators to refer to code D in Figures 5 and 6 of the Accomplishment Instructions of the alert service bulletin.

Post Repair/Preventative Modification Inspections

(o) At the later of the times specified in paragraphs (o)(1) or (o)(2) of this AD, do the action specified in paragraph (p) of this AD.

(1) Within 40,000 flight cycles after doing the repair or preventative modification in accordance with the Accomplishment Instructions of Boeing Service Bulletin 727-53-0198, dated January 11, 1990; or Revision 1, dated July 25, 1991; or the alert service bulletin. If a repair/preventative modification specified in the original or Revision 1 of the service bulletin has been done and additional repair/preventative modification actions specified in the alert service bulletin have also been done, the flight cycles must be counted from the first repair/preventative modification.

(2) Within 3,000 flight cycles after the effective date of this AD.

(p) At the time specified in paragraph (o) of this AD, do the inspections specified in paragraphs (p)(1) and (p)(2) of this AD in accordance with the Accomplishment Instructions of the alert service bulletin. If any crack is found, before further flight, do the repair specified in paragraph (m) of this AD.

(1) Do an HFEC inspection for cracks of the bear strap. Repeat the inspection thereafter at intervals not to exceed 20,000 flight cycles.

(2) Do a detailed inspection for cracks of any repair and preventative modification and its periphery. Repeat the inspection thereafter at intervals not to exceed 3,000 flight cycles.

No Requirement to Contact Boeing

(q) Although paragraphs 3.B.9. and 3.B.10. of the Accomplishment Instructions of the alert service bulletin specify to contact Boeing after repairing cracks, this AD does not include that requirement.

Alternative Methods of Compliance (AMOCs)

(r)(1) The Manager, Seattle ACO, FAA, has the authority to approve AMOCs for this AD, if requested using the procedures found in 14 CFR 39.19.

(2) The inspections specified in paragraphs (o) and (p) of this AD are approved as a method of compliance (MOC) to paragraph (g) of AD 98-11-03 R1, amendment 39-10983, for the inspections of Structurally Significant Items (SSI) F-13A and F-14A of Supplemental Structural Inspection Document (SSID), D6-48040-1, affected by the repair or modification. The MOC applies only to the areas inspected in accordance with the alert service bulletin. All provisions of AD 98-11-03 R1 that are not specifically referenced in paragraphs (r)(2) and (r)(3) of this AD remain fully applicable and must be complied with.

(3) For airplanes on which no repair or preventative modification has been done in accordance with Boeing Service Bulletin 727-53-0198, dated January 11, 1990; or Revision 1, dated July 25, 1991; or the alert service bulletin: The inspections and actions specified in paragraph (g) of this AD are approved as a MOC to paragraph (c) of AD 98-11-03 R1 for the inspections of SSI F-13A and F-14A of SSID, D6-48040-1. This MOC applies only to the areas inspected in accordance with the alert service bulletin. All other provisions of AD 98-11-03 R1 that are not specifically referenced in paragraphs (r)(2) and (r)(3) of this AD remain fully applicable and must be complied with.

Issued in Renton, Washington, on May 27, 2005.
Ali Bahrami,
Manager, Transport Airplane Directorate, Aircraft Certification Service.

[FR Doc. 05-11708 Filed 6-13-05; 8:45 am]

BILLING CODE 4910-13-P